ENVIRONMENTAL PROTECTION AGENCY

[FRL-7509-1]

Availability of “Allocation of Fiscal Year 2003 Youth and the Environment Training and Employment Program Funds”

AGENCY: Environmental Protection Agency (EPA).

ACTION: Notice of document availability.

SUMMARY: EPA is announcing availability of a memorandum entitled “Allocation of Fiscal Year 2003 Youth and the Environment Training and Employment Program Funds” issued on May 21, 2003. This memorandum provides National guidance for the allocation of funds used under section 104(b)(3) of the Clean Water Act.

ADDRESSES: Municipal Assistance Branch, U.S. EPA, 1200 Pennsylvania Avenue, NW., (4204-M), Washington, DC 20460.

FOR FURTHER INFORMATION CONTACT: Curt Baranowski, (202) 564-0636 or baranowski.curt@epa.gov.

SUPPLEMENTARY INFORMATION: The subject memorandum may be viewed and downloaded from Program's Web page at www.epa.gov/owm/youth.htm under the Grant Guidance link.

Dated: May 21, 2003.
Jane S. Moore,
Acting Director, Office of Wastewater Management.

[FR Doc. 03-14191 Filed 6-4-03; 8:45 am]

BILLING CODE 6560-50-P